DEPARTMENT OF ENERGY

Federal Energy Regulatory Commission

[Docket Nos. ER02-2001-000 and RM01-8-000]

Electric Quarterly Reports, Revised Public Utility Filing Requirements; Notice of Extension of Time

May 15, 2003.

On April 25, 2002, the Commission issued Order No. 2001,¹ a final rule which requires public utilities to file Electric Quarterly Reports (EQR). Order 2001-C, issued December 18, 2002, instructs all public utilities to file these reports using Electric Quarterly Report Submission Software, beginning with the report due on or before January 31, 2003 (extended to February 21, 2003). On March 28, 2003, the Commission issued Order 2001-D, requiring public utilities to review their fourth quarter 2002 EQR submissions to ensure that the data filed was correct. Utilities were directed to re-submit their corrected data by April 11, 2003, which was extended to April 18, 2003.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

On April 23, 2003, FERC staff discovered a problem in the “Copy Forward” feature of the EQR submission software. Although the feature has been fixed, filers who used this feature before it was fixed may have to re-enter some data that was previously manually entered into the software. The Commission is committed to ensuring that high quality in the data be filed in the EQRs and subsequently extended the filing deadline for first quarter 2003 EQRs to May 15, 2003.

Several companies have requested further extensions to the filing deadlines to resolve problems they experienced with their EQR filings. We would like to allow these utilities the time needed to ensure that they can successfully file high quality data. Notice is hereby given that the time to file corrections to the fourth quarter 2002 EQR as required by Order 2001-D is extended to the date listed for each company identified in the attachment to this notice.

² The ANP Companies includes the following companies: ANP Funding I, LLC, ANP Marketing Company, ANP Bellingham Energy Company, LLC, ANP Blackstone Energy Company, LLC and Milford Power Limited Partnership.

³ Exelon includes the following companies: Exelon Generation Company, LLC, Exelon Energy Company, AmerGen Energy Company, LLC, Southeast Chicago Energy Project, LLC and Exelon New England Power Marketing, LP.

Magalie R. Salas,
Secretary.

Attachment
Utility | Quarters requested | Date of requested extension
The ANP Companies ² | 2nd, 3rd, and 4th Quarters 2002 and 1st Quarter 2003 | May 16, 2003.
Capital Energy, Inc | 2nd, 3rd, and 4th Quarter 2002 | April 25, 2003.
California Independent System Operator Corporation | 4th Quarter Revisions | May 30, 2003.
California Independent System Operator Corporation | 1st Quarter 2003 | June 10, 2003.
Dominion Resources Services and Affiliates | 4th Quarter 2002 | May 16, 2003.
Exelon ³ | 4th Quarter 2003 and 1st Quarter 2003 | May 30, 2003.
Indeck-Olean and Indeck-Oswego | 4th Quarter 2002 and 1st Quarter 2003 | May 15, 2003.
Sempra Energy Trading Corp | 4th Quarter 2002 | May 29, 2003.
Southern California Edison Company | 1st Quarter 2003 | June 3, 2003

[FR Doc. 03-12823 Filed 5-21-03; 8:45 am]

BILLING CODE 6717-01-P